COMMITTEE FOR PURCHASE FROM PEOPLE WHO ARE BLIND OR SEVERELY DISABLED

Proposed Additions Procurement List; Correction

In the document appearing on page 51794, FR Doc 00-21810, in the issue of August 25, 2000, in the second column the Committee published a proposed addition for Vegetable Oil. From comments that were received, the Committee realized that the requirement that was being proposed for addition to the Procurement List was open to several interpretations. The Committee then published a document appearing on page 60903, FR Doc 00-26361, in the issue of October 13, 2000, in the second column another proposed addition for Vegetable Oil. This notice of October 13, 2000 should have indicated that it was replacing the proposed addition of August 25, 2000. To clarify, the Committee is proposing to add an additional 5% of the government requirement for Vegetable Oil. If added, this will increase the requirement on the Procurement List from 15% to 20%.

Louis R. Bartalot,
Deputy Director (Operations).

[FR Doc. 00-27683 Filed 10-26-00; 8:45 am]

BILLING CODE 6353-01-P